DEPARTMENT OF COMMERCE

International Trade Administration

[A-570-803, A-570-803]

Bars and Wedges and Hammers and Sledges from the People's Republic of China; Corrected Preliminary Results of Full Sunset Reviews

AGENCY: Import Administration, International Trade Administration, Department of Commerce.

ACTION: Notice of Correction to Preliminary Results of Full Sunset Reviews: Bars and Wedges and Hammers and Sledges from the People's Republic of China.

SUMMARY: On January 24, 2000, the Department of Commerce (“the Department”) published in the Federal Register the preliminary results of the full sunset reviews of the antidumping duty orders on bars and wedges and hammers and sledges from the People's Republic of China (“PRC”).¹ Subsequent to the publication of the preliminary results, we identified an inadvertent error in the Preliminary Results of Reviews section of the notice. Therefore, we are correcting and clarifying this inadvertent error.

¹ See Preliminary Results of Full Sunset Reviews: Bars and Wedges and Hammers and Sledges from the People's Republic of China, 65 FR 3658 (January 24, 2000).

The error lies in the last sentence of the next-to-last paragraph: “The Department will issue a notice of final results of this sunset review, which will include the results of its analysis of issues raised in any such comments, no later than June 26, 2000.” This sentence should be replaced with: “The Department will issue a notice of final results of these sunset reviews, which will include the results of its analysis of issues raised in any such comments, no later than May 26, 2000.”

Effective Date: March 27, 2000.

FOR FURTHER INFORMATION CONTACT: Darla D. Brown or Melissa G. Skinner, Office of Policy for Import Administration, International Trade Administration, U.S. Department of Commerce, 14th Street & Constitution Avenue, NW, Washington, DC 20230: telephone (202) 482-3207 and (202) 482-1560, respectively.

This correction is issued and published in accordance with sections 751(h) and 777(i) of the Act.

Dated: March 20, 2000.
Richard W. Moreland,
Acting Assistant Secretary for Import Administration.

[FR Doc. 00-7383 Filed 3-24-00; 8:45 am]

BILLING CODE 3510-DS-P